DEPARTMENT OF ENERGY

10 CFR Part 435

[Docket No. EERE-2016-BT-STD-0003]

RIN 1904-AD56

Energy Efficiency Standards for the Design and Construction of New Federal Low-Rise Residential Buildings' Baseline Standards Update

AGENCY: Office of Energy Efficiency and Renewable Energy, Department of Energy.

ACTION: Final rule; further delay of effective date.

SUMMARY: This document further temporarily postpones the effective date of a recently published final rule amending the baseline Federal building standards.

DATES: As of March 21, 2017, the effective date of the rule amending 10 CFR part 435 published in the Federal Register at 82 FR 2857 on January 10, 2017, delayed until March 21, 2017 at 82 FR 9343 on February 6, 2017, is further delayed until September 30, 2017. The incorporation by reference of the publication listed in this rule is approved by the Director of the Federal Register as of September 30, 2017.

FOR FURTHER INFORMATION CONTACT: Nicolas Baker, U.S. Department of Energy, Office of Energy Efficiency and Renewable Energy, Federal Energy Management Program, Mailstop EE-5F, 1000 Independence Avenue SW., Washington, DC 20585, (202) 586-8215, email: nicolas.baker@ee.doe.gov.

Kavita Vaidyanathan, U.S. Department of Energy, Office of the General Counsel, Forrestal Building, GC-33, 1000 Independence Avenue SW., Washington, DC 20585, (202) 586-0669, email: kavita.vaidyanathan@hq.doe.gov.

SUPPLEMENTARY INFORMATION: On February 6, 2017, the United States Department of Energy (“DOE”) temporarily postponed the effective date of its final rule amending the baseline Federal building standards published in the Federal Register on January 10, 2017. See 82 FR 9343. The January 31st rule temporarily postponed the effective date of the final rule by 60 days, starting from January 20, 2017. The temporary 60-day delay in effective date was necessary to give the newly appointed Secretary of Energy (Secretary) the opportunity for further review and consideration of new regulations. However, the Secretary was not confirmed and did not begin work in his position until March 3, 2017. As a result, the Secretary was unable to accomplish the review and consideration during the original postponement of the effective date of the regulation establishing the baseline Federal building standards. Therefore, DOE hereby further temporarily postpones the effective date of that baseline Federal building standards regulation to allow the Secretary the opportunity to accomplish this task. The effective date of this regulation is postponed until September 30, 2017. This will not change the statutory compliance date, which will remain on January 10, 2018.

To the extent that 5 U.S.C. 553 applies to this action, it is exempt from notice and comment because it constitutes a rule of procedure under 5 U.S.C. 553(b)(A). Alternatively, DOE's implementation of this action without opportunity for public comment, effective immediately upon publication in the Federal Register, is based on the good cause exceptions in 5 U.S.C. 553(b)(B) and 553(d)(3). Pursuant to 5 U.S.C. 553(b)(B), DOE has determined that good cause exists to forego the requirement to provide prior notice and an opportunity for public comment thereon for this rule as such procedures would be impracticable, unnecessary and contrary to the public interest. DOE is temporarily postponing the effective date of this regulation pursuant to the previously-noted need for review by the Secretary. The January 10, 2018, compliance date is unaffected by this action. As a result, seeking public comment on this delay is unnecessary and contrary to the public interest. It is also impracticable given the timing of the Secretary's confirmation and the March 21 effective date established by the prior temporary postponement. For these same reasons DOE finds good cause to waive the 30-day delay in effective date provided for in 5 U.S.C. 553(d).

Issued in Washington, DC, on March 15, 2017.
John T. Lucas,
Acting General Counsel.

[FR Doc. 2017-05485 Filed 3-20-17; 8:45 am]

BILLING CODE 6450-01-P